DEPARTMENT OF TRANSPORTATION

Federal Aviation Administration

14 CFR Part 39

[Docket No. FAA-2004-19565; Directorate Identifier 2004-NM-104-AD]

RIN 2120-AA64

Airworthiness Directives; Gulfstream Aerospace LP Model Galaxy and Gulfstream 200 Airplanes

AGENCY: Federal Aviation Administration (FAA), Department of Transportation (DOT).

ACTION: Proposed rule; withdrawal.

SUMMARY: The FAA withdraws a notice of proposed rulemaking (NPRM) that proposed a new airworthiness directive (AD) for certain Gulfstream Aerospace LP Model Galaxy and Gulfstream 200 airplanes. That action would have required inspecting for incorrect torque of the retaining bolt of the aft trunnion of the main landing gear (MLG), and for associated damage to certain components, and adjustments or repairs if necessary. Since the issuance of the NPRM, we have received new data that the identified unsafe condition has been corrected on 100% of the affected worldwide fleet. Accordingly, the NPRM is withdrawn.

ADDRESSES: You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19565; the directorate identifier for this docket is 2004-NM-104-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Discussion

We proposed to amend part 39 of the Federal Aviation Regulations (14 CFR part 39) with a notice of proposed rulemaking (NPRM) for a new AD for certain Gulfstream Aerospace LP Model Galaxy and Gulfstream 200 airplanes. That NPRM was published in the Federal Register on November 10, 2004 (69 FR 65095). The NPRM would have required inspecting for incorrect torque of the retaining bolt of the aft trunnion of the main landing gear (MLG), and for associated damage to certain components, and adjustments or repairs if necessary. The NPRM was prompted by a report of a rumbling sound heard by the flightcrew during takeoff, and the rumbling stopped after the MLG was retracted. The proposed actions were intended to prevent damage to the retaining bolt and bearing of the aft trunnion of the MLG, which could result in reduced structural integrity of the MLG and consequent reduced controllability of the airplane on the ground.

Actions Since NPRM Was Issued

Since the issuance of that NPRM, the airplane manufacturer has provided us with data that indicate that the identified unsafe condition (damage to the retaining bolt and bearing of the aft trunnion of the MLG, which could result in reduced structural integrity of the MLG and consequent reduced controllability of the airplane on the ground) has already been corrected on 100% of the affected worldwide fleet. The actions required by the NPRM have been accomplished on all affected airplanes; therefore, the unsafe condition no longer exists on the subject airplanes.

FAA's Conclusions

Upon further consideration, we have determined that the actions that would have been required by the NPRM have already been done on all affected airplanes, and the identified unsafe condition has been corrected. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket No. FAA-2004-19565; Directorate Identifier 2004-NM-104-AD, which was published in the Federal Register on November 10, 2004 (69 FR 65095).

Issued in Renton, Washington, on May 23, 2005.
Ali Bahrami,
Manager, Transport Airplane Directorate, Aircraft Certification Service.

[FR Doc. 05-10869 Filed 5-31-05; 8:45 am]

BILLING CODE 4910-13-P